DEPARTMENT OF TRANSPORTATION

Federal Aviation Administration

14 CFR Part 95

[Docket No. 31201; Amdt. No. 540]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, July 19, 2018.

FOR FURTHER INFORMATION CONTACT: Thomas J Nichols, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on June 15, 2018.
John Duncan,
Director, Flight Standards Service.

Adoption of the Amendment

Accordingly, pursuant to the authority delegated to me by the Administrator, part 95 of the Federal Aviation Regulations (14 CFR part 95) is amended as follows effective at 0901 UTC, July 19, 2018.

1. The authority citation for part 95 continues to read as follows:

Authority: 49 U.S.C. 106(g), 40103, 40106, 40113, 40114, 40120, 44502, 44514, 44719, 44721.

2. Part 95 is amended to read as follows:

Revisions to IFR Altitudes and Changeover Point
[Amendment 540 effective date July 19, 2018]
From | To | MEA | MAA
§ 95.3000 Low Altitude RNAV Routes
§ 95.3225 RNAV Route T225 is Amended to Read in Part
GALENA, AK VOR/DME | KUHZE, AK FIX | 4400 | 17500

From | To | MEA
§ 95.6001 Victor Routes—U.S.
§ 95.6064 VOR Federal Airway V64 is Amended to Read in Part
SEAL BEACH, CA VORTAC | *TUSTI, CA FIX | 3000
*6200—MCA TUSTI, CA FIX, E BND
TUSTI, CA FIX | COREL, CA FIX
| W BND | 6200
| E BND | 8000
COREL, CA FIX | PERIS, CA FIX
| W BND | 8000
| E BND | 11000
PERIS, CA FIX | HEMET, CA FIX | *11000
*6700—MOCA
HEMET, CA FIX | HAPPE, CA FIX | *11000
*10200—MOCA
§ 95.6071 VOR Federal Airway V71 is Amended to Read in Part
HOT SPRINGS, AR VOR/DME | OLLAS, AR FIX | *3600
*3100—MOCA
OLLAS, AR FIX | *HAAWK, AR FIX | **4500
*10000—MCA HAAWK, AR FIX, N BND
**2500—MOCA
HAAWK, AR FIX | HARRISON, AR VOR/DME | *10000
*3700—MOCA
*4000—GNSS MEA
§ 95.6078 VOR Federal Airway V78 is Amended to Read in Part
PELLSTON, MI VORTAC | ALPENA, MI VORTAC | 2700
ALPENA, MI VORTAC | *ZABLE, MI FIX | 3000
*5000—MCA ZABLE, MI FIX, S BND
BANJO, MI FIX | BENNY, MI FIX | *3000
*2300—MOCA
BENNY, MI FIX | SAGINAW, MI VOR/DME | 2400
§ 95.6081 VOR Federal Airway V81 is Amended to Read in Part
BLACK FOREST, CO VOR/DME | HOHUM, CO FIX | #10000
*10000—GNSS MEA
#BLACK FOREST R-330 UNUSABLE
§ 95.6095 VOR Federal Airway V95 is Amended to Read in Part
DURANGO, CO VOR/DME | ZEANS, CO FIX
| S BND | 12300
| N BND | 16500
ZEANS, CO FIX | LAZON, CO FIX | 16500
LAZON, CO FIX | POWES, CO FIX
| N BND | 15000
| S BND | 16500
POWES, CO FIX | BLUE MESA, CO VOR/DME
| S BND | 16500
| N BND | 12800
§ 95.6133 VOR Federal Airway V133 is Amended to Read in Part
BARRETTS MOUNTAIN, NC VOR/DME | MULBE, NC FIX
| S BND | 5400
| N BND | 7200
MULBE, NC FIX | *STOVE, VA FIX | 7200
*11000—MCA STOVE, VA FIX, N BND
STOVE, VA FIX | *PINEE, WV FIX | **13000
*11400—MCA PINEE, WV FIX, S BND
**7000—MOCA
§ 95.6143 VOR Federal Airway V143 is Amended to Read in Part
LYNCHBURG, VA VORTAC | ELLON, VA FIX
| N BND | 5700
| S BND | 3200
ELLON, VA FIX | *CLYFF, VA FIX | 5700
*6300—MCA CLYFF, VA FIX, N BND
§ 95.6154 VOR Federal Airway V154 is Amended to Read in Part
*LOTTS, GA FIX | SAVANNAH, GA VORTAC | **3000
*9000—MRA
**1800—MOCA
§ 95.6157 VOR Federal Airway V157 is Amended to Read in Part
ALMA, GA VORTAC | *LOTTS, GA FIX | **10000
*9000—MRA
*10000—MCA LOTTS, GA FIX, SW BND
**2000—GNSS MEA
§ 95.6179 VOR Federal Airway V179 is Amended to Read in Part
DUBLIN, GA VORTAC | HUSKY, GA FIX | *3000
*2200—MOCA
§ 95.6218 VOR Federal Airway V218 is Amended to Read in Part
*BAULK, WI FIX | ROCKFORD, IL VOR/DME | **4000
*4000—MRA
**2600—MOCA
§ 95.6267 VOR Federal Airway V267 is Amended to Read in Part
ORLANDO, FL VORTAC | PAOLA, FL FIX
| N BND | *2800
| S BND | *1900
*1600—MOCA
§ 95.6291 VOR Federal Airway V291 is Amended to Read in Part
KACEE, AZ FIX | PEACH SPRINGS, AZ VOR/DME | *11000
*10000—MOCA
§ 95.6312 VOR Federal Airway V312 is Amended to Read in Part
WOODSTOWN, NJ VORTAC | COYLE, NJ VORTAC | 2100
§ 95.6323 VOR Federal Airway V323 is Amended to Read in Part
NALIZ, GA FIX | WEMOB, GA FIX | *3000
*2100—MOCA
WEMOB, GA FIX | HUSKY, GA FIX | *3000
*2200—MOCA
§ 95.6325 VOR Federal Airway V325 is Amended to Read in Part
COLUMBIA, SC VORTAC | *VESTO, GA FIX | 8000
*8000—MCA VESTO, GA FIX, E BND
VESTO, GA FIX | ATHENS, GA VOR/DME
| W BND | 2500
| E BND | 8000
§ 95.6361 VOR Federal Airway V361 is Amended to Read in Part
MONTROSE, CO VOR/DME | ICIES, CO FIX
| S BND | 10600
| N BND | 15000
§ 95.6402 VOR Federal Airway V402 is Amended to Read in Part
PANHANDLE, TX VORTAC | *BRISC, TX FIX | **7000
*8000—MCA BRISC, TX FIX, NE BND
**5000—MOCA
BRISC, TX FIX | *MITBEE, OK VORTAC | **8000
*8000—MCA MITBEE, OK VORTAC, SW BND
**4500—MOCA
§ 95.6417 VOR Federal Airway V417 is Amended to Read in Part
ATHENS, GA VOR/DME | COLLIERS, SC VORTAC | 2500
§ 95.6420 VOR Federal Airway V420 is Amended to Read in Part
GAYLORD, MI VOR/DME | ALPENA, MI VORTAC | 3200
§ 95.6421 VOR Federal Airway V421 is Amended to Read in Part
DURANGO, CO VOR/DME | ZEANS, CO FIX
| N BND | 16500
| S BND | 12300
ZEANS, CO FIX | LAZON, CO FIX | 16500
LAZON, CO FIX | POWES, CO FIX
| S BND | 16500
| N BND | 15000
POWES, CO FIX | BLUE MESA, CO VOR/DME
| S BND | 16500
| N BND | 12800
§ 95.6485 VOR Federal Airway V485 is Amended to Read in Part
VENTURA, CA VOR/DME | *HENER, CA FIX | 5000
*6500—MCA HENER, CA FIX, NW BND
§ 95.6500 VOR Federal Airway V500 is Amended to Read in Part
SOLDE, ID FIX | *REAPS, ID FIX
| E BND | **14000
| W BND | **17000
*15400—MCA REAPS, ID FIX, W BND
**8200—MOCA
§ 95.6506 VOR Federal Airway V506 is Amended to Read in Part
TULSA, OK VORTAC | VINTA, OK FIX | 2700
§ 95.6512 VOR Federal Airway V512 is Amended to Read in Part
HOLAN, IN FIX | *SACKO, IN FIX | **3500
*10000—MCA SACKO, IN FIX, E BND
**2100—MOCA
**3000—GNSS MEA
SACKO, IN FIX | LOUISVILLE, KY VORTAC | 10000
LOUISVILLE, KY VORTAC | *CLEGG, KY FIX | 10000
*10000—MCA CLEGG, KY FIX, W BND
§ 95.6527 VOR Federal Airway V527 is Amended to Read in Part
*HOT SPRINGS, AR VOR/DME | HIDER, AR FIX
| SE BND | 3200
| NW BND | 9500
*5700—MCA HOT SPRINGS, AR VOR/DME, NW BND
HIDER, AR FIX | ROVER, AR FIX.
| SE BND | *5500
| NW BND | *9500
*3200—MOCA
ROVER, AR FIX | *SCRAN, AR FIX | **9500
*9500—MCA SCRAN, AR FIX, SE BND
**3600—MOCA
SCRAN, AR FIX | CASKS, AR FIX | *6500
*3700—MOCA
GAMPS, AR FIX | BILIE, MO FIX | *4000
*3200—MOCA
§ 95.6609 VOR Federal Airway V609 is Amended to Read in Part
SAGINAW, MI VOR/DME | BENNY, MI FIX | 2400
BENNY, MI FIX | BANJO, MI FIX | *3000
*2300—MOCA
BANJO, MI FIX | *ZABLE, MI FIX | **5000
*5000—MCA ZABLE, MI FIX, S BND
**2900—MOCA
ZABLE, MI FIX | *RONDO, MI FIX | 3200
*5000—MRA
*RONDO, MI FIX | PELLSTON, MI VORTAC | **3200
*5000—MRA
**2500—MOCA
§ 95.6611 VOR Federal Airway V611 is Amended to Read in Part
BLACK FOREST, CO VOR/DME | LUFSE, CO FIX | #*10000
*10000—GNSS MEA
#BLACK FOREST R-028 UNUSABLE
§ 95.6317 ALASKA VOR Federal Airway V317 is Amended to Read in Part
ANNETTE ISLAND, AK VOR/DME | GESTI, AK FIX
| SE BND | 5000
| NW BND | 7000
GESTI, AK FIX | LEVEL ISLAND, AK VOR/DME | *7000
*5300—MOCA
LEVEL ISLAND, AK VOR/DME | HOODS, AK FIX | *9000
*6000—MOCA
HOODS, AK FIX | *SISTERS ISLAND, AK VORTAC
| SE BND | **9000
| NW BND | **7000
*7900—MCA SISTERS ISLAND, AK VORTAC, W BND
**5500—MOCA
§ 95.6456 ALASKA VOR Federal Airway V456 is Amended to Read in Part
GULKANA, AK VOR/DME | *SANKA, AK FIX
| NE BND | 11000
| SW BND | 6000
*8000—MCA SANKA, AK FIX, NE BND
SANKA, AK FIX | NORTHWAY, AK VORTAC | *11000
*10500—MOCA
§ 95.6506 ALASKA VOR Federal Airway V506 is Amended to Read in Part
KODIAK, AK VOR/DME | BREMI, AK FIX | #*12000
*9900—MOCA
*10000—GNSS MEA
#KODIAK R-280 UNUSABLE BYD 20NM BLO 12000
BREMI, AK FIX | KING SALMON, AK VORTAC
| E BND | 12000
| W BND | 5000
§ 95.6406 HAWAII VOR Federal Airway V6 is Amended to Read in Part
PLUMB, HI FIX | MAUI, HI VORTAC | 6300
§ 95.6411 HAWAII VOR Federal Airway V11 is Amended to Read in Part
BARBY, HI FIX | *SWEEP, HI FIX | **5400
*5400—MCA SWEEP, HI FIX, S BND
**3000—MOCA
SWEEP, HI FIX | MAUI, HI VORTAC | 5000
§ 95.6415 HAWAII VOR Federal Airway V15 is Amended to Read in Part
MAUI, HI VORTAC | *BARBY, HI FIX | 8400
*9800—MCA BARBY, HI FIX, E BND
BARBY, HI FIX | *RABAT, HI FIX | **10000
*10000—MCA RABAT, HI FIX, W BND
**2700—MOCA
§ 95.6422 HAWAII VOR Federal Airway V22 is Amended to Read in Part
PLUMB, HI FIX | MAUI, HI VORTAC | 6300
MAUI, HI VORTAC | *BARBY, HI FIX | 8400
*12000—MCA BARBY, HI FIX, SE BND

From | To | MEA | MAA
§ 95.7001 Jet Routes
§ 95.7225 Jet Route J225 is Amended to Read in Part
CEDAR LAKE, NJ VOR/DME | KENNEDY, NY VOR/DME | 18000 | 45000
§ 95.7536 Jet Route J536 is Amended to Read in Part
SISTERS ISLAND, AK VORTAC | U.S. CANADIAN BORDER | #21000 | 45000
#MEA is ESTABLISHED WITH A GAP IN NAVIGATION SIGNAL COVERAGE.

Airway segment: From | Airway segment: To | Changeover points: Distance | Changeover points: From
§ 95.8003 VOR Federal Airway Changeover Point V291 is Amended to Add Changeover Point
FLAGSTAFF, AZ VOR/DME | PEACH SPRINGS, AZ VOR/DME | 39 | FLAGSTAFF
V325 is Amended to Add Changeover Point
ATHENS, GA VOR/DME | COLUMBIA, SC VORTAC | 24 | ATHENS
V417 is Amended to Add Changeover Point
ATHENS, GA VOR/DME | COLLIERS, SC VORTAC | 24 | ATHENS

[FR Doc. 2018-13611 Filed 6-25-18; 8:45 am]

BILLING CODE 4910-13-P